CHEMICAL SAFETY AND HAZARD INVESTIGATION BOARD

Sunshine Act Meeting

In connection with its investigation into three separate incidents at the Honeywell International Inc. plant in Baton Rouge, Louisiana, in 2003, the United States Chemical Safety and Hazard Investigation Board (CSB) announces that it will convene a public meeting starting at 10 a.m. local time on Wednesday, March 2, 2005, at the Holiday Inn Select, Executive Center, 4728 Constitution Avenue, Baton Rouge, LA 70808, telephone (225) 925-2244.

On July 20, 2003, a release of chlorine gas from the Honeywell plant resulted in injuries to seven plant workers and issuance of a shelter-in-place advisory for residents within a half-mile radius. On July 29, 2003, a one-ton cylinder at the same plant released its contents to the atmosphere, fatally injuring a plant worker by exposure to toxic antimony pentachloride. On August 13, 2003, two workers at the plant were exposed to toxic hydrofluoric acid (HF), and one of them was hospitalized.

At the meeting CSB staff will present the Board with the results of their investigation into these three incidents, including a discussion of key findings, root and contributing causes, and proposed recommendations. The CSB staff presentation will focus on three key safety issues: hazard awareness, management of nonroutine situations, and safe operating procedures.

After the staff presentation, the Board will ask for public comments. Following the conclusion of the public comment period, the Board will consider whether to approve the final report and recommendations. All staff presentations are preliminary and are solely intended to allow the Board to consider in a public forum the issues and factors involved in this case. No factual analyses, conclusions or findings of the staff should be considered final. Only after the Board has considered the staff presentation and approved the staff report will there be an approved final record of this incident.

The meeting will be open to the public, and there is no fee or pre-registration required. Please notify CSB if a translator or interpreter is needed, at least 5 business days prior to the public meeting. For more information, please contact the Chemical Safety and Hazard Investigation Board at (202) 261-7600, or visit our Web site at: http://www.csb.gov.

Christopher W. Warner,
General Counsel.

[FR Doc. 05-3074 Filed 2-14-05; 12:42 pm]

BILLING CODE 6350-01-P